DEPARTMENT OF AGRICULTURE

Agricultural Research Service

Notice of Intent To Request an Extension, and Revision, of a Currently Approved Information Collection; Correction

AGENCY: Agricultural Research Service.

ACTION: Notice; correction.

SUMMARY: In accordance with the Paperwork Reduction Act of 1995 (Pub. L. 04-13) and Office of Management and Budget (OMB) regulations at 5 CFR Part 1320 (60 FR 44978, August 29, 1995), this notice announced the Agricultural Research Service's (ARS) intention to seek approval to collection information in support of research and related activities.

The document contained incorrect dates.

FOR FURTHER INFORMATION CONTACT: Jill Philpot, 301-504-5683.

Correction

In the Federal Register of March 6, 2006, in FR Doc. 62-2065 on page 11175, in the second paragraph, and the seventh paragraph correct the DATES caption to read:

DATES: Comments on this notice must be received by May 5, 2006, to be assured of consideration.

Correction

Expiration Date: May 31, 2006.

Dated: March 7, 2006.
Yvette Anderson,
ARS Federal Register Liaison Officer.

[FR Doc. 06-2597 Filed 3-14-06; 10:53 am]

BILLING CODE 3410-03-M